DEPARTMENT OF HEALTH AND HUMAN SERVICES

Centers for Disease Control and Prevention

[60Day-00-44]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

Farm Stressor Inventory for Adult Farmers Supervising Children or Adolescents—New-National Institute of Occupational Health and Safety (NIOSH). The farm economic crisis of the mid-1980's brought renewed attention to severe episodes of stress, depression, and suicide experienced by farmers. Since that time, a variety of farm stress studies have been published that document some of the more severe consequences of stress and ill-health related to the economic and workload pressures experienced by farmers during this period. However, in the majority of these studies the effects of a stressful environment and the farmers' personal reactions to these environmental stressors cannot be separated. Lacking in these studies is a clear methodological distinction between:

1. Each farmer's description of the environmental stressors, (e.g. the amount and types of work performed),

2. The farmer's acute stress reaction, (e.g., his/her immediate personal reaction to these conditions in terms of worry, sleep difficulties, bad temper, etc.), and

3. The build-up of chronic strain in response to accumulating stress, (e.g. depression, personality changes, withdrawal, anger, etc.).

Also lacking during these early studies of farm stress are the complex responsibilities of parents supervising the work of their children (and others). It has long been recognized that farm children make a critically important contribution to the labor needs on most family farms. More recently, increasing attention has been paid to the hazards faced by these children as they work. A number of studies have been conducted into a variety of aspects of child and adolescent labor on farms. However, only a small amount of attention has been given to the cognitive and emotional demands on adults while supervising children in farm tasks. This study will investigate supervision of child farm labor as a major work environment stressor.

Family owned and operated farms constitute the vast majority of farms in the U.S. Children of any age who are family members may work on the home farm without legal restrictions. Legal restrictions on employment in farm work apply to workers outside the resident family:

1. Adolescents who are sixteen or older are considered adults with respect to farm work and may work on any farm;

2. Adolescents who are fourteen or fifteen may be hired to work on any farm, with restrictions.

3. Children who are thirteen and under may be hired for selected non-hazardous activities with parental permission; and,

4. Children as young as ten may be hired for some short-term harvest activities with parental permission.

The purpose of this study is to conduct a psychometric validation of a new survey of farm work stressors including the supervision of children. As described above, the focus of the survey is on the work environment stressors encountered by farmers. Measures of acute stress and chronic strain will also be assessed, but the primary focus is an assessment of the work environment on family farms where children or adolescents also work.

A random sample will be drawn from a list of farms in the U.S. The sample will be selected to represent U.S. farms with respect to type and size of operation and by geographic location. Approximately 2,500 farms will be selected for initial telephone contact. Principal owner-operators of the selected farms will be contacted to briefly describe the project and to determine: (1) If children or adolescents have worked on the farm in the past year (adolescents who are fourteen or older need not be family members), and (2) if the farmer is willing to complete the one-hour survey. Approximately 700 farmers from the original sample are anticipated to have supervised children and to be willing to complete the survey (the qualified sample). Surveys will be mailed to the 700 farmers, along with a postage-paid reply envelope.

A comprehensive psychometric analysis will be performed on the data in the completed surveys. There is no cost to respondents.

Respondents | Number of respondents | Number of responses per respondent | Average burden per response (in hrs.) | Total burden hours
Farmers (initial contacts) | 2,500 | 1 | 6/60 | 250
Farmers (survey) | 700 | 1 | 1 | 700
Total |  |  |  | 950

Dated: July 25, 2000.
Nancy Cheal,
Acting Associate Director for Policy, Planning and Evaluation, Centers for Disease Control and Prevention (CDC).

[FR Doc. 00-19210 Filed 7-28-00; 8:45 am]

BILLING CODE 4163-18-P